DEPARTMENT OF HOMELAND SECURITY

Federal Emergency Management Agency

[Docket ID: FEMA-2021-0018; OMB No. 1660-NW132]

Agency Information Collection Activities: Proposed Collection; Comment Request; FEMA-Administered Disaster Case Management Intake Form

AGENCY: Federal Emergency Management Agency, Department of Homeland Security.

ACTION: 60-Day notice of new collection and request for comments.

SUMMARY: The Federal Emergency Management Agency (FEMA), as part of its continuing effort to reduce paperwork and respondent burden, invites the general public to take this opportunity to comment on a new information collection. In accordance with the Paperwork Reduction Act of 1995, this notice seeks comments concerning information collected during the intake process for a FEMA-administered Disaster Case Management (DCM) program implemented following a major disaster declaration.

DATES: Comments must be submitted on or before August 30, 2021.

ADDRESSES: Submit comments at www.regulations.gov under Docket ID FEMA-2021-0018. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Rebekah Kennedy, Team Lead, Community Services Section, Individual Assistance Division, rebekah.kennedy@fema.dhs.gov or (202) 212-1175. You may contact the Information Management Division for copies of the proposed collection of information at email address: FEMA-Information-Collections-Management@fema.dhs.gov.

SUPPLEMENTARY INFORMATION: Pursuant to Executive Order (E.O.) 12148, as amended by E.O. 12673 and E.O. 13286, the President of the United States has delegated to the Department of Homeland Security (DHS), including FEMA, the authority to provide case management services as stated in the Robert T. Stafford Disaster Relief and Emergency Assistance Act (Stafford Act), 42 U.S.C. 5189d. Under the Stafford Act, FEMA may provide DCM services directly to survivors through financial assistance to state, tribal, or local government agencies or qualified private organizations. DCM services include identifying and addressing disaster-caused unmet needs of survivors through identification of, and referrals to, available resources. A disaster-caused unmet need is an un-resourced item, support, or assistance that has been assessed and verified as necessary for a survivor to recover from a disaster. This may include food, clothing, shelter, first aid, emotional and spiritual care, household items, home repair, or rebuilding.

When a case manager speaks to a survivor, they will ask the survivor to provide information through a series of questions (data elements), as outlined within the intake form. This will allow the case manager to better understand the survivor's disaster-caused unmet needs and to then assist them with obtaining the resources needed. The information gathered within this collection tool is used to determine the survivor's disaster-caused unmet needs, to identify what types of referrals the case manager may provide, and to decide whether there is a need to meet again to address continuing disaster-caused unmet needs. Case managers then type the responses to the data elements into their proprietary electronic secured case management database.

Collection of Information

Title: FEMA-Administered Disaster Case Management Intake Form.

Type of Information Collection: New information collection.

OMB Number: 1660-NW132.

FEMA Forms: FF-104-FY-21-146 and FF-104-FY-21-147.

Abstract: This collection tool will primarily be used as a guide to support FEMA-administered DCM case managers by outlining the allowable data elements they can collect from survivors on behalf of FEMA. While there will be a paper collection tool, the case managers will primarily be using the tool as a reference of data elements they can collect, and using their own case management database systems to guide the order in which the elements are collected. The elements within the tool are used to assess, screen, and refer disaster survivors to available resources that address their specific disaster-related unmet needs. Case managers then take the information from the intake form and manually upload the data into their secured case management database.

Prior to any data collection, survivors will complete and sign a FEMA-administered DCM Consent Form, authorizing FEMA, or its agent, to collect data from the survivor in order to effectively provide case management services.

Affected Public: Survivors of Presidentially declared major disasters where a FEMA-administered Disaster Case Management program is implemented.

Estimated Number of Respondents: 75,000.

Estimated Number of Responses: 75,000.

Estimated Total Annual Burden Hours: 48,000 burden hours.

Estimated Total Annual Respondent Cost: $1,746,240.

Estimated Respondents' Operation and Maintenance Costs: $0.

Estimated Respondents' Capital and Start-Up Costs: $0.

Estimated Total Annual Cost to the Federal Government: $51,640,374.

Comments

Comments may be submitted as indicated in the ADDRESS caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-13869 Filed 6-28-21; 8:45 am]

BILLING CODE 9111-24-P